DEPARTMENT OF HEALTH AND HUMAN SERVICES

Centers for Disease Control and Prevention

[60Day-10-0479]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Automated Management Information System (MIS) for Diabetes Control Programs (OMB No. 0920-0479, expiration date 5/31/2010)—Revision—National Center for Chronic Disease Prevention and Health Promotion (NCCDPHP), Centers for Disease Control and Prevention (CDC).

Background and Brief Description

Diabetes is the seventh leading cause of death in the United States, contributing to more than 233,619 deaths each year. An estimated 23.6 million people in the United States have diabetes: 17.9 million people who have been diagnosed with diabetes and 5.7 million people have undiagnosed diabetes. To reduce the burden of this disease, the Centers for Disease Control and Prevention (CDC) established the national Diabetes Control Program, authorized under sections 301 and 317(k) of the Public Health Service Act [42 U.S.C. sections 241 and 247b(k)]. This program provides funding to health departments in States and territories to develop, implement, and evaluate population-based Diabetes Prevention and Control Programs (DPCPs). These programs provide support for health departments to design, implement and evaluate diabetes prevention and control strategies that improve access to and quality of care for all, including communities most impacted by the burden of diabetes (e.g., racial/ethnic minority populations, the elderly, rural dwellers and the economically disadvantaged).

CDC currently collects information from DCPCs through a Web-based Management Information System (MIS). The information is used to monitor compliance with cooperative agreement requirements, evaluate progress in achieving program-specific goals, and identify needs for training and technical assistance. The MIS is a Web-based, password access-protected repository and technical reporting system that supports the collection of accurate, uniform, and timely information about DCPCs. The MIS has standardized the format and the content of diabetes data reported from the DPCPs and provides an electronic means for efficient collection and transmission of information to CDC.

The information collected through the MIS allows CDC to monitor, evaluate, and compare individual programs; to assess and report aggregate information regarding the overall effectiveness of the DPCP program; and to rapidly respond to external inquiries about specific diabetes control activities. The MIS also supports DDT's broader mission of reducing the burden of diabetes by enabling DDT staff to more effectively identify the strengths and weaknesses of individual DPCPs and to disseminate information related to successful public health interventions.

Approval to collect information for three additional years will be requested. Respondents will be 53 DCPCs in States, the District of Columbia, the Virgin Islands, and Puerto Rico. The information collection will not include the Pacific Islands jurisdictions that were previously funded through the national Diabetes Control Program and will be funded through a separate mechanism in the future.

All information will be collected electronically. Action Plan items will be reported twice per year and other items will be reported once per year. During the next approval period, selected data elements will be revised to provide a common set of progress and performance indicators across a number of CDC's chronic disease prevention and control programs, as outlined in the new funding opportunity announcement. Burden to respondents will be reduced due to improved organization of the MIS, and increased use of existing data resources. There are no costs to respondents other than their time.

Estimated Annualized Burden Hours
Type of respondents | Form name | Number of respondents | Number of responses per respondent | Average burden per response (in hours) | Total burden (in hours)
Diabetes Prevention and Control Programs | Program Information: Program Summary | 53 | 1 | 12 | 636
| Resources: Personnel | 53 | 1 | 13 | 689
| Resources: Contracts | 53 | 1 | 5 | 265
| Resources: Partners | 53 | 1 | 10 | 530
| Planning: Data Sources | 53 | 1 | 5 | 265
| Action Plan Project Period Objectives & Updates | 53 | 2 | 5 | 530
| Action Plan Annual Objectives & Activities & Updates | 53 | 2 | 11.5 | 1,219
Total |  |  |  |  | 4,134

Dated: December 8, 2009.
Maryam I. Daneshvar,
Acting Reports Clearance Officer, Centers for Disease Control and Prevention.

[FR Doc. E9-29971 Filed 12-16-09; 8:45 am]

BILLING CODE 4163-18-P